AGENCY FOR INTERNATIONAL DEVELOPMENT

Privacy Act of 1974, System of Records

AGENCY: United States Agency for International Development

ACTION: Notice of new system of records.

SUMMARY: The United States Agency for International Development (USAID) is issuing public notice of its intent to establish a new system of records maintained in accordance with the Privacy Act of 1974 (5 U.S.C. 552a), as amended, entitled “USAID-029, Deployment Tracking System.” This action is necessary to meet the requirements of the Privacy Act to publish in the Federal Register notice of the existence and character of record systems maintained by the agency (5 U.S.C. 522a(e)(4)).

DATES: Public comments must be received on or before April 2, 2009. Unless comments are received that would require a revision, this update to the system of records will become effective on April 13, 2009.

ADDRESSES: You may submit comments:

Paper Comments

• Mail: Chief Privacy Officer, United States Agency for International Development, 1300 Pennsylvania Avenue, NW., Suite 2.12-003, Washington, DC 20523-2120.

Electronic Comments

• Federal eRulemaking Portal: http://www.regulations.gov. Follow the instructions on the Web site for submitting comments.

FOR FURTHER INFORMATION CONTACT: General questions regarding this notice should be directed to Randall Davis, Jr., Office of Civilian Response, (202) 712-1814. Privacy Act related questions should be directed to Rhonda Turnbow, Deputy Chief Privacy Officer (202) 712-0106.

SUPPLEMENTARY INFORMATION: USAID is establishing a new system of records pursuant to the Privacy Act (5 U.S.C. 552a), entitled the Deployment Tracking System (DTS). This system is being established to support USAID's responsibilities as identified in National Security Presidential Directive 44 (NSPD-44), issued on December 7, 2005.

The objective of NSPD-44 is to promote the security of the United States through improved coordination, planning and implementation for reconstruction and stabilization assistance for foreign states and regions at risk of, in, or in transition from conflict or civil strife. NSPD-44 mandates the Department of State to coordinate, plan and implement an interagency effort, with the capacity to quickly and effectively respond to a crisis overseas. To accomplish this, the Department of State established the Civilian Response Corps (CRC). Led by the Department of State, CRC is comprised of eight agency partners, including USAID, whose programs and personnel may have relevant capabilities to prepare, plan for, and conduct stabilization and reconstruction activities.

USAID's Bureau for Democracy, Conflict and Humanitarian Assistance, Office of Civilian Response (DCHA/OCR) has been assigned to implement these mandates. In order to participate as a partner agency, USAID must have mechanisms in place to assign or employ skilled personnel and have the ability to mobilize resources rapidly in response to stabilization crisis. The DTS is being established to provide DCHA/OCR personnel with internal capabilities to plan and mobilize the appropriate personnel in response to a crisis. The system will be used to identify potential, current and former civilian employees and contractors skilled in crisis response, to ensure a coordinated U.S. response to international reconstruction and stabilization efforts.

Dated: February 23, 2009.
W. Philip Gordon, Jr.,
Acting Chief Privacy Officer.

USAID-029

System name:

Deployment Tracking System.

Security classification:

None.

System location(s):

Records will be maintained at USAID, Director, Office of Civilian Response, 1300 Pennsylvania Ave., NW., RRB Suite 08.6, Washington, DC 20253.

Categories of individuals covered by the system:

This system will contain records of current, planned, and former employees and contractors who choose to participate in the Civilian Response Corps.

Categories of records in the system:

This system will contain information relevant to the planning, administration, training, and management of CRC personnel. Categories of records include: Full name, date of birth, height/weight, hair/eye color, blood type, marital status, religion, citizenship, home address, home phone number, mobile phone number, personal e-mail address, emergency contact, next of kin, passport information, and driver license information.

Authority for maintenance of the system:

National Security Presidential Directive 44, Supplemental Appropriations Bill for Fiscal Year 2008, H.R. 2642-7, and Foreign Assistance Act of 1961.

Purpose(s):

Records in this system will be used:

(1) To track operations of the hiring process;

(2) To monitor the deployment validation process;

(3) To identify and plan deployment teams;

(4) To assess and manage the deployment and logistics of team members;

(5) To notify, locate and mobilize individuals in a deployed area, as necessary during emergency or other threatening situation;

(6) To notify the designated emergency contact in case of a medical or other emergency involving an individual.

(7) To manage orientation, annual, specialized and pre-deployment training in preparation for projected deployments.

Disclosure to Consumer Reporting Agencies:

These records are not disclosed to consumer reporting agencies.

Routine Use of Records Maintained in the System, Including Categories of Users and the Purposes of Such Uses:

In addition to USAID's Statement of Routine uses, records in this system may be disclosed to:

(1) Any Federal Agency, Foreign Government or other entity participating in emergency response activities or providing assistance to USAID with an evacuation, medical emergency, any other crisis situation, or

(2) Any CRC partner agency to carry out activities in support of the mission of OCR and the CRC.

Policies and practices for storing, retrieving, accessing, retaining, and disposing of records in the system:

Storage:

Records are stored in electronic format. Paper copy will be shredded once electronic input is complete.

Retrievability:

Records are retrievable by name, location or any other identifier listed in the categories of records cited above.

Safeguards:

Access to electronic records will be restricted to those individuals with a need to know. Users will use passwords to access the system. The electronic records will be protected by standard USAID information system security measures.

Retention and disposal:

Records will be updated periodically to reflect changes and deleted or destroyed when their use is no longer required. OCR is requesting a National Archives and Records Administration (NARA) approved electronic records schedule.

System manager and address:

USAID, Director, Office of Civilian Response, 1300 Pennsylvania Ave., NW., RRB Suite 08.6, Washington, DC 20253.

Notification procedures:

Individuals requesting notification of the existence of records on them must send the request in writing to the USAID Chief Privacy Officer, 1300 Pennsylvania Ave. NW., RRB Suite 2.12-003, Washington, DC 20253. The request must include the requestor's full name, his/her current address and a return address for transmitting the information. The request must be notarized and reasonably specify the record contents being sought.

Record access procedures:

Individuals requesting access to a record maintained on them must address the request to the USAID Chief Privacy Officer as described in “Notification Procedures” above.

Contesting record procedures:

Individuals requesting amendment of a record maintained on them must identify the information to be changed and the corrective action sought. Requests must be sent to the USAID Chief Privacy Officer as described in “Notification Procedures” above.

Record source categories:

The records contained in this system will be provided by and updated by the individual who is the subject of the record.

Exemptions claimed for the system:

None.

[FR Doc. E9-4325 Filed 3-2-09; 8:45 am]

BILLING CODE 6116-02-P